DEPARTMENT OF HEALTH AND HUMAN SERVICES

Food and Drug Administration

Manufacturing Subcommittee of the Advisory Committee for Pharmaceutical Science; Cancellation

AGENCY: Food and Drug Administration, HHS.

ACTION: Notice.

SUMMARY: The Food and Drug Administration (FDA) is canceling the meeting of the Manufacturing Subcommittee of the Advisory Committee for Pharmaceutical Science scheduled for April 18 and 19, 2006. This meeting was announced in the Federal Register of February 16, 2006 (71 FR 8307).

FOR FURTHER INFORMATION CONTACT: Mimi T. Phan, Center for Drug Evaluation and Research (HFD-21), Food and Drug Administration, 5600 Fishers Lane (for express delivery, rm. 1093), Rockville, MD 20857, 301-827-7001, FAX: 301-827-6776, e-mail: mimi.phan@fda.hhs.gov, or FDA Advisory Committee Information Line, 1-800-741-8138(301-443-0572 in the Washington, DC area) code 3014512539.

Dated: March 10, 2006.
Jason Brodsky,
Acting Associate Commissioner for External Relations.

[FR Doc. E6-3851 Filed 3-16-06; 8:45 am]

BILLING CODE 4160-01-S